DEPARTMENT OF AGRICULTURE

Animal and Plant Health Inspection Service

9 CFR Part 72

[Docket No. APHIS-2012-0069]

Texas (Splenetic) Fever in Cattle

AGENCY: Animal and Plant Health Inspection Service, USDA.

ACTION: Final rule.

SUMMARY: We are amending the Texas (Splenetic) Fever regulations by updating the scientific names for the ticks that transmit the disease, listing additional names for the disease, and removing all products except coumaphos from the list of dips permitted for use on cattle in interstate movement. These actions are necessary to update and clarify the regulations.

DATES: Effective Date: February 7, 2013

FOR FURTHER INFORMATION CONTACT: Dr. Matthew T. Messenger, Staff Entomologist, Cattle Fever Tick Eradication Program Manager, VS, APHIS, 4700 River Road Unit 39, Riverdale, MD 20737-1231; (301) 851-3421.

SUPPLEMENTARY INFORMATION:

Background

The regulations in 9 CFR part 72, “Texas (Splenetic) Fever in Cattle” (referred to below as the regulations), restrict the interstate movement of cattle from areas of the United States that are quarantined because of ticks that are vectors for bovine babesiosis. The disease is referred to in the regulations as splenetic or tick fever. Splenetic or tick fever is a contagious, infectious, and communicable disease of cattle that causes cattle to become weak and dehydrated and can cause death.

Section 72.1 lists the scientific names for ticks capable of transmitting microscopic parasites (Babesia) that cause bovine babesiosis. We are amending the list by clarifying that Margaropus annulatus is now considered a distinct species, and the genus Boophilus has been reclassified as a subgenus of the genus Rhipicephalus. In addition, we are removing R. evertsi evertsi from the list since this species is endemic to Africa and does not have established populations in North America.

Section 72.2 lists areas of the United States where splenetic or tick fever exists in cattle. We are amending this section to indicate that the terms southern fever, cattle fever, Texas fever, bovine piroplasmosis, redwater, and bovine babesiosis all refer to the same disease.

Section 72.13 concerns tickicidal dips for cattle and dipping procedures. Paragraph (b) lists the dips permitted for use on cattle in interstate movement. We are amending paragraph (b) by removing all dips except coumaphos, which is the only product being used currently. All other products have been removed from the market and their Environmental Protection Agency registration canceled by the manufacturers.

Currently, the title of part 72 is “Texas (Splenetic) Tick Fever in Cattle.” We are changing the title of the part to “Bovine Babesiosis” for the sake of clarity and technical accuracy.

Executive Orders 12866 and 12988 and Regulatory Flexibility Act

This rule relates to internal agency management. Therefore, this rule is exempt from the provisions of Executive Orders 12866 and 12988. Moreover, pursuant to 5 U.S.C. 553, notice of proposed rulemaking and opportunity for comment are not required for this rule, and it may be made effective less than 30 days after publication in the Federal Register. In addition, under 5 U.S.C. 804, this rule is not subject to Congressional review under the Small Business Regulatory Enforcement Fairness Act of 1996, Public Law 104-121. Finally, this action is not a rule as defined by 5 U.S.C. 601 et seq., the Regulatory Flexibility Act, and thus is exempt from the provisions of that Act.

Executive Order 12372

This program/activity is listed in the Catalog of Federal Domestic Assistance under No. 10.025 and is subject to Executive Order 12372, which requires intergovernmental consultation with State and local officials. (See 7 CFR part 3015, subpart V.)

Paperwork Reduction Act

This rule contains no new information collection or recordkeeping requirements under the Paperwork Reduction Act of 1995 (44 U.S.C. 3501 et seq.).

List of Subjects in 9 CFR Part 72

Animal diseases, Cattle, Quarantine, Transportation.

Accordingly, 9 CFR part 72 is amended as follows:

PART 72—BOVINE BABESIOSIS

1. The authority citation for part 72 continues to read as follows:

Authority: 7 U.S.C. 8301-8317; 7 CFR 2.22, 2.80, and 371.4.

2. The heading of part 72 is revised to read as set forth above.

3. Section 72.1 is revised to read as follows:

§ 72.1 Interstate movement of infested or exposed animals prohibited.

No animals infested with ticks [Boophilus annulatus or Rhipicephalus (Boophilus) annulatus, Margaropus annulatus, Boophilus microplus or Rhipicephalus (Boophilus) microplus, or Babesiasis (Babesiosis) species vectors of Margaropus, Rhipicephalus, Amblyomma, Demacentor, or Ixodes] or exposed to tick infestation may be moved interstate, except as provided in this part.

4. Section 72.2 is amended as follows:

a. By revising the section heading to read as set forth below.

b. In the first sentence of the section, by removing the word “splenetic” and adding the words “bovine piroplasmosis, bovine babesiosis, redwater, or splenetic, southern, cattle, Texas” in its place.

§ 72.2 Restrictions on movement of cattle.

* * * * *

§ 72.13 [Amended]

5. Section 72.13 is amended as follows:

a. In paragraph (b) introductory text, by removing the word “Department” and by adding the words “U.S. Department of Agriculture” in its place.

b. By removing paragraphs (b)(1), (b)(3), and (b)(4), by redesignating paragraph (b)(2) as paragraph (b)(1), and by adding and reserving a new paragraph (b)(2).

Done in Washington, DC, this 4th day of February 2013.
Kevin Shea,
Acting Administrator, Animal and Plant Health Inspection Service.

[FR Doc. 2013-02784 Filed 2-6-13; 8:45 am]

BILLING CODE 3410-34-P